DEPARTMENT OF LABOR

Employment and Training Administration

[TA-W-50,514]

General Electric Company, Industrial Systems, Mebane, NC; Dimissal of Application for Reconsideration

Pursuant to 29 CFR 90.18(C) an application for administrative reconsideration was filed with the Director of the Division of Trade Adjustment Assistance for workers at General Electric Company, Industrial Systems, Mebane, North Carolina. The application contained no new substantial information which would bear importantly on the Department's determination. Therefore, dismissal of the application was issued.

TA-W-50,514; General Electric Company, Industrial Systems Mebane, North Carolina (July 17, 2003).

Signed at Washington, DC this 22nd day of July 2003.
Timothy F. Sullivan,
Director, Division of Trade Adjustment Assistance.

[FR Doc. 03-19857 Filed 8-4-03; 8:45 am]

BILLING CODE 4510-30-P